DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northwest Region Vessel Identification Requirements.

Form Number(s): None.

OMB Approval Number: 0648-0355.

Type of Request: Regular submission.

Burden Hours: 1,270.

Number of Respondents: 1,693.

Average Hours Per Response: 45 minutes.

Needs and Uses: Federally-permitted vessels in the Pacific Coast Groundfish Fishery are required to identify their vessels by displaying their official number on the port and starboard sides of the deckhouse or hull, and on a weatherdeck. The vessel identification is required by all open access and limited entry commercial vessels over 25 feet in length in the Northwest region. The number is used by NOAA, the U.S. Coast Guard, and other agencies for fishery enforcement activities.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 30, 2005.
Gwellnar Banks,
Management Analyst, Office of the Chief Information Officer.

[FR Doc. 05-6670 Filed 4-4-05; 8:45 am]

BILLING CODE 3510-22-P